FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Acco Foreign Shipping, Inc. (OFF), 10880 NW. 27th Street, Suite 200, Doral, FL 33172. Officer: Ali A. Germi, President (QI). Application Type: Add Trade Name Acco Terramar.

DI Global Logistics, Inc. (NVO & OFF), 1730 NW 96th Avenue, Miami, FL 33172. Officers: Johan Arenas, Vice President (QI), Carlos N. Delgado Arenas, President. Application Type: New NVO & OFF License.

Exclusive Global Logistics, Inc. (NVO & OFF), 9635 Heinrich Hertz Drive, San Diego, CA 92154. Officers: Hwa Y. Yoon, CFO (QI), Bowhan Kim, CEO. Application Type: New NVO & OFF License.

KJW-CHB, LLC (OFF), 765 North Route 83, Suite 114, Bensenville, IL 60106. Officer: Keh J. Wu, President (QI). Application Type: New OFF License.

Sippi Logistics Inc (NVO & OFF), 1122 La Cienega Blvd., Suite 630, Inglewood, CA 90304. Officers: Musarat Izhar, President` (QI), Taher Hussaini, Secretary. Application Type: New NVO & OFF License.

Star Freight Logistics LLC (NVO & OFF), 5963 NW 102 Avenue, Doral, FL 33178. Officer: Edivaldo Rezende, Member (QI). Application Type: New NVO & OFF License.

Titan International Shipping, Inc. (NVO), 8900 W. Sample Road, Suite 101, Coral Springs, FL 33065. Officer: Roberto G. Durand, President (QI). Application Type: New NVO License.

Rapid Cargo & Logistics, Inc. (NVO), 15606 S. Broadway Center Street, Gardner, CA 90248. Officer: Richard Y. Hong, President (QI). Application Type: QI Change.

By the Commission.
Dated: December 14, 2012.
Karen V. Gregory,
Secretary.

[FR Doc. 2012-30573 Filed 12-18-12; 8:45 am]

BILLING CODE 6730-01-P